DEPARTMENT OF COMMERCE

International Trade Administration

[A-570-900]

Diamond Sawblades and Parts Thereof From the People's Republic of China: Final Results of the Second Expedited Sunset Review of the Antidumping Duty Order

AGENCY: Enforcement and Compliance, International Trade Administration, Department of Commerce.

SUMMARY: As a result of this sunset review, the Department of Commerce (Commerce) finds that revocation of the antidumping duty order on diamond sawblades and parts thereof (diamond sawblades) from the People's Republic of China (China) would be likely to lead to continuation or recurrence of dumping as indicated in the “Final Results of Sunset Review” section of this notice.

DATES: Applicable December 7, 2020.

FOR FURTHER INFORMATION CONTACT: Christopher Williams or Minoo Hatten, AD/CVD Operations, Office I, Enforcement and Compliance, International Trade Administration, U.S. Department of Commerce, 1401 Constitution Avenue NW, Washington, DC 20230; telephone: (202) 482-5166 or (202) 482-1690, respectively.

SUPPLEMENTARY INFORMATION:

Background

The antidumping duty order on diamond sawblades from China was published on November 4, 2009.¹ In accordance with 19 CFR 351.218(d)(1)(i) and (ii), Commerce received a notice of intent to participate in this sunset review from Diamond Sawblades Manufacturers' Coalition (the petitioner) within 15 days after the date of publication of the Initiation Notice.² The petitioner claimed interested party status under sections 771(9)(C) and (F) of the Tariff Act of 1930, as amended (the Act).

¹ See Diamond Sawblades and Parts Thereof from the People's Republic of China and the Republic of Korea: Antidumping Duty Orders, 74 FR 57145 (November 4, 2009).

² See Initiation of Five-Year (“Sunset”) Review, 85 FR 47185 (August 4, 2020) (Initiation Notice).

Commerce received an adequate substantive response to the Initiation Notice from the domestic interested party within the 30-day period specified in 19 CFR 351.218(d)(3)(i). Commerce received no substantive response from any respondent interested parties. In accordance with section 751(c)(3)(B) of the Act and 19 CFR 351.218(e)(1)(ii)(C)(2), Commerce conducted an expedited, i.e., 120-day, sunset review of the antidumping duty order on diamond sawblades from China.

Scope of the Order

The merchandise subject to the order is diamond sawblades. The diamond sawblades subject to the order are currently classifiable under subheadings 8202 to 8206 of the Harmonized Tariff Schedule of the United States (HTSUS) and may also enter under 6804.21.00. While the HTSUS subheadings are provided for convenience and customs purposes, the written description is dispositive. A full description of the scope of the order is contained in the Issues and Decision Memorandum.³

³ See Memorandum, “Issues and Decision Memorandum for the Final Results of Expedited Second Sunset Review of the Antidumping Duty Order on Diamond Sawblades and Parts Thereof from the People's Republic of China,” dated concurrently with and hereby adopted by this notice (Issues and Decision Memorandum).

Analysis of Comments Received

All issues raised in this review are addressed in the Issues and Decision Memorandum, including the likelihood of continuation or recurrence of dumping in the event of revocation and the magnitude of dumping margins likely to prevail if the order was revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at http://enforcement.trade.gov/frn/index.html. The signed and electronic versions of the Issues and Decision Memorandum are identical in content.

Final Results of Sunset Review

Pursuant to sections 751(c) and 752(c) of the Act, Commerce determines that revocation of the antidumping duty order on diamond sawblades from China would be likely to lead to continuation or recurrence of dumping at weighted-average margins up to 164.09 percent.

Notification to Interested Parties

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Commerce is issuing and publishing the final results and notice in accordance with sections 751(c), 752(c), and 777(i)(1) of the Act and 19 CFR 351.221(c)(5)(ii).

Dated: November 30, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

VII. Final Results of Second Expedited Sunset Review

VIII. Recommendation

[FR Doc. 2020-26828 Filed 12-4-20; 8:45 am]

BILLING CODE 3510-DS-P